DEPARTMENT OF COMMERCE

International Trade Administration

Environmental Technologies Trade Advisory Committee

AGENCY: Industry and Analysis, International Trade Administration, Department of Commerce.

ACTION: Solicitation of nominations for membership for the environmental technologies trade advisory committee.

SUMMARY: Pursuant to section 2313(c) of the Export Enhancement Act of 1988, as amended, and in accordance with the Federal Advisory Committee Act, as amended (FACA), the Department of Commerce (the Department) requests nominations for membership for the Environmental Technologies Trade Advisory Committee (ETTAC or “Committee”). The purpose of the ETTAC is to provide consensus advice to the Environmental Trade Working Group (ETWG) of the Trade Promotion Coordinating Committee (TPCC), reporting through the Secretary of Commerce in her capacity as Chair of the TPCC, regarding the development and administration of programs to expand U.S. exports of environmental technologies goods and services that comply with United States environmental, safety, and related requirements.

DATES: Nominations for membership must be received on or before 5:00 p.m. Eastern Daylight Time (EDT) on August 9, 2024. After that date, the International Trade Administration (ITA) may continue to accept nominations under this notice to fill any vacancies that may arise.

ADDRESSES: Nominations may be emailed to Megan Hyndman at Megan.Hyndman@trade.gov and Evelina Scott at Evelina.Scott@trade.gov. Nominations must be submitted in either Microsoft Word or PDF format.

FOR FURTHER INFORMATION CONTACT: Megan Hyndman, Designated Federal Officer, Office of Energy & Environmental Industries, (202) 823-1839; email Megan.Hyndman@trade.gov or Evelina Scott, Secondary Designated Federal Officer, (202) 597-0342; email Evelina.Scott@trade.gov. ETTAC materials are posted online at http://trade.gov/ettac.

SUPPLEMENTARY INFORMATION:

I. Background and Authority

The ETTAC was established pursuant to section 2313(c) of the Export Enhancement Act of 1988, as amended, 15 U.S.C. 4728(c) and was first chartered on May 31, 1994. The ETTAC provides consensus advice to the Environmental Trade Working Group (ETWG) of the Trade Promotion Coordinating Committee (TPCC), reporting through the Secretary of Commerce in her capacity as Chair of the TPCC, regarding the development and administration of programs to expand U.S. exports of environmental technologies goods and services that comply with United States environmental, safety, and related requirements. In particular, the Committee advises on matters including, but not limited to:

(1) All matters concerning trade policy development and negotiations relating to U.S. environmental technologies exports;

(2) The effect of U.S. Government policies, regulations, and programs, and foreign governments' policies and practices, on the export of U.S. environmental products, technologies, and services;

(3) The competitiveness of U.S. industry and its ability to compete for environmental technologies, products, and services opportunities in international markets, including specific problems in exporting, and provide specific recommendations regarding U.S. Government and public/private actions to assist environmental technologies companies in expanding their exports;

(4) The identification of priority environmental technologies, products, and services markets with high immediate returns for U.S. exports, as well as emerging markets with a longer-term potential for U.S. exports;

(5) Strategies to increase private sector awareness and effective use of U.S. Government export promotion programs, and recommendations on how U.S. Government programs may be more efficiently designed and coordinated;

(6) The development of complementary industry and trade association export promotion programs and greater or more effective coordination of U.S. Government efforts with private sector organizations'environmental technologies industry export promotion efforts; and

(7) The development of U.S. Government programs to encourage U.S. producers of environmental technologies, products, and services to enter new foreign markets, in connection with which the Committee may advise on how to gather, disseminate, and promote awareness of information on environmental exports and related trade issues.

II. Membership

The ETTAC shall consist of approximately 35 members appointed by the Secretary, in accordance with applicable Department of Commerce guidance and based on their ability to carry out the objectives of the Committee. Members shall represent U.S. environmental technologies manufacturing and services companies, U.S. trade associations, U.S. private sector organizations, States or associations representing the States, and civil society groups involved in the promotion of exports of environmental technologies products and services.

Members of the Committee are selected, in accordance with applicable Department of Commerce guidelines, based on their ability to carry out the objectives of the Committee as set forth in the Charter and in a manner that ensures that the Committee is balanced in terms of points of view, industry subsector, geography, and company size. The diverse membership of the Committee assures perspectives reflecting the breadth of the Committee's responsibilities, and, where possible, the Department of Commerce will also consider the ethnic, racial, sexual orientation and gender identity diversity and various abilities of the United States population. The Department is committed to achieving diversity in membership of the Council to the maximum extent permitted by law consistent with the need for balanced industry representation. The Department may seek additional nominations as necessary to attain membership balance and demographic diversity. The Secretary shall appoint to the Committee at least one individual representing each of the following:

(a) environmental businesses, including small businesses;

(b) trade associations in the environmental sector;

(c) private sector organizations involved in the promotion of environmental exports, including products that comply with U.S. environmental, safety, and related requirements;

(d) States (as defined in 15 U.S.C. 4721(j)(5)) and associations representing the States; and

(e) other appropriate civil society groups, such as labor organizations.

Members of the Committee serve at the pleasure of the Secretary from the date of appointment to the Committee to the date on which the Committee's charter terminates. Members of the Committee serve in a representative capacity, presenting the views and interests of a U.S. entity or U.S. organization, as well as their particular subsector; they are, therefore, not Special Government Employees. Each member of the Committee must be a U.S. citizen and must not be registered as foreign agents under the Foreign Agents Registration Act. No member may represent a company that is majority owned or controlled by a foreign government entity (or foreign government entities). Members of the Committee will not be compensated for their services or reimbursed for their travel expenses. The Secretary of Commerce invites applications for the ETTAC, consistent with the above membership requirements. To be considered for membership, submit the following information 5:00 p.m. EDT on August 9, 2024, to the email listed in the ADDRESSES section. If you are interested in nominating someone to become a member of the Committee, please provide the following information:

(1) Sponsor letter on the company's, trade association's or organization's letterhead containing the name, title, and relevant contact information (including phone and email address) of the individual who is applying or being nominated;

(2) An affirmative statement that the nominee will be able to meet the expected time commitments of Committee work, including:

(a) Attending Committee meetings as scheduled below approximately eight times throughout the charter (lasting one day each), including attending at least four in-person Committee meetings at the U.S. Department of Commerce. Tentative dates are provided below, but final dates, including the dates of in-person meetings, will be determined in consultation with 2024-2026 ETTAC advisors:

I. January 28, 2025 (in-person attendance required)

II. April 8, 2025

III. June 3, 2025

IV. September 9, 2025

V. December 9, 2025

VI. February 3, 2026

VII. April 28, 2026

VIII. July 14, 2026 (in-person attendance required)

(b) undertaking additional work outside of full committee meetings including subcommittee conference calls or meetings as needed; and

(c) frequently drafting, preparing, or commenting on proposed recommendations to be evaluated at Committee meetings.

(3) Short biography of nominee, including credentials;

(4) Brief description of the company, trade association, or organization to be represented and its business activities; company size (number of employees and annual sales); and export markets served;

(5) An affirmative statement that the nominee meets all Committee eligibility criteria, specifically addressing that the applicant:

(a) Is a U.S. citizen; and

(b) Is not required to register as a foreign agent under the Foreign Agents Registration Act of 1938, as amended

Please do not send company, trade association, or organization brochures or any other information.

All applications should be submitted in pdf or MS Word format via email to Megan Hyndman, Designated Federal Officer, Office of Energy & Environmental Industries, International Trade Administration, U.S. Department of Commerce, at Megan.Hyndman@trade.gov and Evelina Scott, Secondary Designated Federal Officer, Office of Energy & Environmental Industries, International Trade Administration, at Evelina.Scott@trade.gov. Nominees selected for appointment to the Committee will be notified by email.

Dated: May 7, 2024.
Man K. Cho,
Deputy Director, Office of Energy and Environmental Industries.

[FR Doc. 2024-10581 Filed 5-14-24; 8:45 am]

BILLING CODE 3510-DR-P